DEPARTMENT OF ENERGY

Federal Energy Regulatory Commission

18 CFR Parts 35, 131, 154, 157, 250, 281, 284, 300, 341, 344, 346, 347, 348, 375 and 385

[Docket No. RM01-5-000]

Electronic Tariff Filings

Issued April 17, 2008.

AGENCY: Federal Energy Regulatory Commission, Department of Energy.

ACTION: Supplemental Notice of Proposed Rulemaking.

SUMMARY: The Federal Energy Regulatory Commission is proposing to revise its previous Notice of Proposed Rulemaking for electronic tariff filing. The revised proposal would require that all tariffs and tariff revisions and rate change applications for the public utility, natural gas pipeline, and oil pipeline industries be filed electronically according to a set of standards developed in conjunction with the North American Energy Standards Board. These standards will enable the Commission to develop a tariff database for use by the Commission staff, the industry, and the public to view and research tariffs, and also provides companies the flexibility to design or purchase software for making tariff filings that best fits their business needs. Upon the effective date of a final rule in this proceeding, the Commission will no longer accept tariff filings submitted in paper format.

DATES: Comments are due May 29, 2008.

ADDRESSES: You may submit comments, identified by docket number, by any of the following methods:

• Agency Web Site: http://ferc.gov. Documents created electronically using word processing software should be filed in native applications or print-to-PDF format and not in a scanned format.

• Mail/Hand Delivery: Commenters unable to file comments electronically must mail or hand deliver an original and 14 copies of their comments to: Federal Energy Regulatory Commission, Secretary of the Commission, 888 First Street, NE., Washington, DC 20426.

Instructions: For detailed instructions on submitting comments and additional information on the rulemaking process, see the Comment Procedures Section of this document.

FOR FURTHER INFORMATION CONTACT:

H. Keith Pierce (Technical Information), Office of Markets, Tariffs, and Rates, Federal Energy Regulatory Commission, 888 First Street, NE., Washington, DC 20426, (202) 502-8525, Keith.Pierce@ferc.gov.

Anthony Barracchini (IT Information), Office of the Executive Director, Federal Energy Regulatory Commission, 888 First Street, NE., Washington, DC 20426, (202) 502-8940, Anthony.Barracchini@ferc.gov.

Andre Goodson (Legal Information), Office of the General Counsel, Federal Energy Regulatory Commission, 888 First Street, NE., Washington, DC 20426, (202) 502-8560, Andre.Goodson@ferc.gov.

SUPPLEMENTARY INFORMATION:

Supplemental Notice of Proposed Rulemaking

Table of Contents

| Paragraph Nos.
I. Background | 2
II. Discussion | 7
A. Companies Required to File Tariffs Electronically | 13
B. Filing Process | 14
1. Procedures for Making Tariff Filings | 14
2. XML Schema | 20
C. Tariff Filing Requirements | 22
1. Sheets or Section Filing Requirements | 24
2. Gas and Electric Open Access Transmission Tariffs | 27
3. Versioning | 31
4. Clean and Marked Tariff Changes as Attachments | 36
5. Joint, Shared, and Section 206 Filings | 39
a. Joint Tariff Filings | 40
b. Shared Tariffs | 44
c. Section 206 Filings Related to ISOs/RTOs | 49
D. Other Business Practice Changes | 52
1. Electronic Service | 52
2. Attachment Documents | 53
3. Withdrawal of Pending Tariff Filings and Amendments to Tariff Filings | 54
4. Motions | 56
5. Rate Sheets for Tariff Filings by Intrastate and Hinshaw Pipelines | 57
E. Transition Procedures | 59
1. Baseline Tariff Filings | 59
2. Testing, Implementation and Further Procedures | 64
III. Information Collection Statement | 67
IV. Environmental Analysis | 72
V. Regulatory Flexibility Act Certification | 73
VI. Comment Procedures | 74
VII. Document Availability | 78

1. In a Notice of Proposed Rulemaking (NOPR) issued on July 8, 2004, the Commission proposed to require public utilities and gas and oil pipelines to file tariff and tariff related material electronically.¹ The Commission's initial proposal contemplated that tariff filings would be made using electronic tariff filing software developed by the Commission. Based on the comments on the initial proposal, the Commission staff in collaboration with the wholesale electric and gas quadrants of the North American Energy Standards Board (NAESB), and representatives from the Association of Oil Pipelines (AOPL) have developed a set of standards to be used by companies in making tariff and tariff related filings at the Commission. The Commission is proposing to adopt those standards as the requirement for making tariff and tariff related filings. As a result of the adoption of these standards, and additional considerations raised in the comments at NAESB, the Commission is proposing several revisions to the manner in which companies will make tariff and tariff related filings.

¹ Electronic Tariff Filings, Notice of Proposed Rulemaking, 69 FR 43,929 (July 23, 2004) FERC Stats. & Regs., Proposed Regulations ¶ 32,575 (2004) (2004 NOPR), Notice of Additional Proposals and Procedures, 70 FR 40941 (July 15, 2005), FERC Stats. & Regs., Proposed Regulations ¶ 35,551 (2005), 112 FERC ¶ 61,043 (2005 Notice).

I. Background

2. In the 2004 NOPR, the Commission proposed to require public utilities, power administrations, interstate and intrastate gas pipelines, and oil pipelines to file tariff and tariff related material electronically. The Commission proposed to develop an electronic tariff database to store tariff and tariff related information for retrieval by Commission staff and the public. In order to implement a tariff database system that would permit such functionality, Commission staff developed a software system for tariff filings similar to that used in filing forms with the Commission. Commission staff worked with many industry representatives and experts to test this software and held public meetings to demonstrate and receive comment on the software. Based on these efforts, the Commission, in the 2005 Notice, proposed two changes to the 2004 NOPR intended to ease utilities' burdens in complying and to expand the efficiency of the electronic filing process.

3. Comments were filed on the proposed changes to the regulations and the software.² While some of the commenters supported using the Commission-provided software as an acceptable solution, others were concerned that this software might not work well for making tariff filings. Some also were concerned that the Commission software would not integrate well with their existing tariff management systems and that formatting tariffs to fit the parameters of the software could be difficult or time consuming.

² Comments on the proposed changes and the software were due August 1, 2005 and May 31, 2006, respectively.

4. As a result of the review of the comments, on February 1, 2007, a public meeting was held with NAESB to discuss NAESB's assistance in the process of developing the protocols, standards, and data formats needed to provide tariff and related data to enable the Commission to develop a database to track electronic tariff and rate schedules filings. At the meeting, NAESB agreed to develop these standards and report back to the Commission.

5. NAESB established two committees, a business eTariff Subcommittee and an eTariff Technical Task Force. These committees included representatives from the wholesale natural gas industry, wholesale electric industry, oil pipelines, and intrastate natural gas pipelines who worked along with Commission staff to develop the applicable standards. Between February 1, 2007 and January 23, 2008, these committees held a total of 16 meetings in various cities over 24 days. An average of 61 people participated in these meetings either in person or by electronic conferencing. The Executive Committees for both the Wholesale Gas and Wholesale Electric Quadrants of NAESB approved the standards on March 4, 2008, and the NAESB membership ratified the standards on April 4, 2008.

6. On April 15, 2008, NAESB filed the standards with the Commission along with a record of the NAESB proceedings. This material included questions about the policies to be followed in using the standards to make tariff filings. NAESB also provided a copyright waiver stating: “While the eTariff standards are copyrighted by NAESB, a limited waiver is granted to the FERC to modify and post any excerpts of the eTariff standards and eTariff work products that they deem appropriate. These excerpts will be available for companies to reproduce only for their own internal use.”

II. Discussion

7. We want to thank NAESB, and its Board of Directors, for taking on this somewhat out of the ordinary project of working with the Commission staff to develop standards for tariff filings with the Commission. We particularly want to thank the numerous volunteers, and the companies who sponsored them, from the gas, electric, and oil industries who spent countless hours developing the business and technical standards as well as evaluating how the standards could be used to make a broad array of different filings. The meetings provided a valuable opportunity for the exchange of ideas and concerns among the industries and Commission staff. As a result, we are proposing to revise our regulations and procedures to accommodate the way industry maintains tariffs. We believe that the protocols and standards that have been developed will provide a robust framework for the filing of tariff and tariff related materials with the Commission and the development of a Commission database to enable staff, industry, and the public to access and search those data.

8. With the advent of eFiling 7.0, the Commission has been expanding its ability to receive electronic filings through its eFiling and eLibrary systems. While eLibrary works very well as a document repository that stores, and permits retrieval of, all documents filed in individual docketed proceedings, it is not well suited to the processing of tariff and tariff related filings. Tariff filings occur in many different dockets over time, and in order for the Commission and the public to obtain a complete picture of a company's tariff, these various provisions need to be integrated into a single system that will provide information as to the status of tariff provisions, permit the assembly of a complete tariff, and permit tariff related research. Prior to the advent of electronic filing, the Commission would keep tariff books, open to the public, in which new pages would be inserted to reflect revisions and ensure that the tariff reflects the currently effective tariff.³ The provision of an electronic database of company tariffs will make such information available more efficiently and to a broader audience.

³ In fact, companies themselves would often arrange to view those tariffs to try and recreate either effective tariffs or the tariff in effect during the time period of a particular proceeding.

9. The database will provide easier access to tariffs and allow the viewing of proposed tariff sections in context. One of the principal benefits of such a database is the ability to do historical research into tariffs. For example, proceedings such as complaints may involve past tariff provisions that have already been revised by the utility by the time the complaint is considered by the Commission. In order to expeditiously process such filings, the Commission, the parties, and the public need to be able to obtain the tariff provision that applies to the time period under review, rather than the currently effective tariff provision.⁴

⁴ See FPL Energy Marcus Hook, L.P. v. PJM Interconnection, LLC, 118 FERC ¶ 61,169, at P 11, n.9 (2007) (parties litigated a complaint case based on a superseded tariff provision).

10. The set of NAESB protocols and standards provides a foundation for building such a database. The standards define an extensible markup language (XML) schema ⁵ that will permit filers to assemble a filing package that includes the tariff changes, the accompanying tariff-related documents, such as the transmittal letter, rate schedules, and spreadsheets that are required to accompany various tariff filings, and other required information such as the proposed effective date of the filing. Upon the receipt of the filing electronically, the XML schema will enable the Commission to parse ⁶ (divide) the filed package into its component parts, place the filed documents into its eLibrary system, organize the tariff database and provide a metadata ⁷ that will permit the Commission and the public to search that database.

⁵ XML schemas facilitate the sharing of data across different information systems, particularly via the Internet, by structuring the data using tags to identify particular data elements. For example, each filed tariff change will include tags for the relevant information, such as the utility name, the tariff section being changed, the name for that section, the effective date, and certain sections of tariff text. The tagged information could then be extracted and separately searched.

⁶ Parse means to capture the hierarchy of the text in the XML file and transform it into a form suitable for further processing.

⁷ The term metadata is based on the Greek word “meta” meaning after or beyond and in epistemology means “about.” Thus, metadata is data or information beyond or about other data. Digital Libraries, by William Arms (M.I.T. Press 2000), http://www.cs.cornell.edu/wya/DigLib/MS1999/Chapter1.html (visited April 11, 2008); The University of Queensland, http://www.library.uq.edu.au/iad/ctmeta4.html (visited April 11, 2008); The Linux Information Project, http://www.linfo.org/metadata.html (visited April 11, 2008). For example, in the XML schema, one required element is a proposed effective date and another element is the text of the tariff provision. The proposed effective date would be considered metadata relative to the tariff text.

11. The NAESB standards and protocols also will provide flexibility to companies making tariff filings. In contrast to the Commission's prior approach, the standards will enable each regulated company to design or purchase software for creating tariff filings that will best accommodate its filing patterns and the needs of its business.

12. As a result of using the NAESB XML standards, we needed to make revisions in the regulations we previously proposed and in the method by which tariff related filings will be made at the Commission. In addition, several issues were raised regarding Commission policies for filing tariffs in the comments filed with NAESB. We address these issues below. Some of the most significant changes and proposals are the following:

• Tariffs ⁸ may be filed either using the current sheet based nomenclature or using section-based numbering at the choice of the filer.⁹

⁸ The term tariff is used herein to refer to tariffs, rate schedules, jurisdictional contracts, and other jurisdictional agreements that are required to be on file with the Commission.

⁹ Section-based filings will not have to include the sheet based nomenclature as a header or footer on the tariff page.

• Tariffs may be filed as entire documents in either of two electronic formats, RTF ¹⁰ or PDF,¹¹ except with respect to open access transmission tariffs for electric utilities and interstate natural gas companies which would have to be filed as individual sheets or as sections in RTF format as defined in the proposed regulations.

¹⁰ RTF refers to Rich Text Format which is a standardized textual format that can be produced by a number of word processors.

¹¹ PDF refers to Portable Document Format which is a format used for representing documents that closely resembles the original formatting of the document.

• Tariff filings can be served electronically using the same approach used for electronic service of other Commission filings.

• Filings of joint tariffs (tariffs covering two regulated entities) may be made with a single tariff filing by the entity designated to make the filing.

• Tariff filings for tariffs shared among companies (such as RTO tariffs) can be made individually by any of the companies with rights to file tariff changes.

• During initial baseline implementation of electronic tariff filing, only open access transmission tariffs and agreements need to be filed.

• After implementation of electronic tariff filing, all new tariffs and agreements must be filed using the standards. Existing agreements need to be filed only when they are revised.

A. Companies Required To File Tariffs Electronically

13. The companies or entities covered by this NOPR are those that submit tariffs, rates, or contracts with the Commission pursuant to the Natural Gas Act (NGA), the Natural Gas Policy Act of 1978 (NGPA), the Federal Power Act (FPA), the Interstate Commerce Act (ICA), the Flood Control Act, the Bonneville Power Act, the Northwest Power Planning Act, any other relevant statutes. Included among the companies or entities proposed to be covered by requirement are: Regional transmission organizations (RTOs) and independent system operators (ISOs); power authorities and federal power marketing administrations which file rates, contracts, or tariffs at the Commission; intrastate natural gas pipelines that file rates and operating conditions pursuant to the NGPA; interstate natural gas pipelines subject to the NGA which serve only an industrial customer; and companies or entities that may make voluntary tariff filings, such as reciprocity filings pursuant to Order No. 888.

B. Filing Process

1. Procedures for Making Tariff Filings

14. Using the new XML schema, companies will make tariff related filings using the existing eFiling portal. As described below, the filing process will be modified slightly from the current eFiling process, in particular to include a company registration that will provide increased security for the filing, as well as additional e-mail notifications of potential problems with the filing.

15. The person making a tariff filing must have previously registered in eFiling (Filer). Upon successfully logging into the FERC eFiling portal, the Filer will be presented with the introductory screen indicating success in accessing the site, and presented with a link to the filing creation part of the site, which will include an option to make a Tariff filing (eTariff portal).

16. The eTariff filing portal will prompt the Filer to enter the company identification number assigned during the company registration process and an associated password. After successfully passing this step, the Filer will upload an eTariff XML filing package that conforms to the XML schema. Once the filing is uploaded, the eFiling Web page will indicate the filing has been submitted.

17. After the filing has been submitted, a Confirmation of Receipt will be e-mailed to both the e-mail address of the Filer and to the e-mail address on file with FERC for the company identification number. This ­e-mail only acknowledges the receipt of the filing through the eFiling portal, provides a timestamp, and indicates that the filing is placed in the queue to be processed.

18. The XML filing package will be validated programmatically by an eTariff verification process. Depending upon the success of the verification process, a number of e-mails will be sent.

• If the verification is completed successfully, an e-mail will be sent to the validation e-mail address provided in the XML package and to the e-mail address associated with the company whose tariff is being revised.¹² This e-mail means only that the filing has passed the validation, not that it has been officially accepted by the Secretary of the Commission.

¹² This may not be the same company making the filing; for example, in the case of a shared tariff, one notification will go to the company making the filing and the other will go to the ISO or RTO whose tariff is being revised.

• If the XML filing package can be parsed (and the validation e-mail address can be obtained), but the package does not otherwise pass verification, an e-mail will be sent to the validation e-mail address provided in the XML filing package. This e-mail will provide information about the problems encountered during the verification process.

• If the XML cannot be parsed at all (is unreadable), an e-mail will be sent to the Filer and to the e-mail address associated with the company identification number indicating a problem has been encountered with the filing.

19. Once passed validation, the standard eFiling email will be sent to indicate whether the Secretary of the Commission has accepted and docketed the filing or rejected it. As occurs with all filings, the docketing email does not guarantee that other filing deficiencies will not result in rejection or other action pertaining to the filing later in the review processes within the Commission. After this step, the filing is passed on to eLibrary, the tariff database and other Commission systems.

2. XML Schema

20. Under the standards, the tariff filing must be made in conformance with the XML schema. The schema essentially is a method by which the filing entities can communicate information to the Commission. The schema proscribes the metadata elements and the textual information that must be included in the filing package. The data elements included in XML package are required to properly organize the tariff database and to maintain the proper relationship of tariff provisions in relation to other provisions. For example, these elements will identify which tariff provision is being revised so that the revised tariff can be placed electronically in the proper location within the tariff hierarchy. The filing package itself will include the text of tariff changes as well as all filing attachments, such as transmittal letters.¹³ The XML schema will be maintained on the Commission website along with the required codes, descriptions, and other requirements, as well as information that may be useful to those developing filing software.¹⁴ Contemporaneously with the issuance of this NOPR, we are posting on the website the XML schema along with the descriptions of the fields used in the schema, a proposed instruction manual, and preliminary codes to be used with the XML schema.

¹³ The XML must be filed as a zip (compressed) file.

¹⁴ http://www.ferc.gov under the tab Documents and Filings, eTariff.

21. Although we do not envision that the schema and related code values will need to be changed frequently, the Secretary of the Commission, under Order No. 703, will have delegated authority to make modifications to them if necessary.¹⁵ Before any such changes are made, a notice of the proposed change will be issued sufficiently in advance to permit companies to revise their software.

¹⁵ 18 CFR 375.302(z).

C. Tariff Filing Requirements

22. The Commission's current regulations require companies to file tariff sheets that include specifically defined nomenclature to identify each sheet of the tariff.¹⁶ A company is required to file only the tariff sheets containing the tariff revisions or changes.

¹⁶ See 18 CFR 35.9; 154.102(e).

23. As a result of the implementation of electronic tariff filing, the exchange of information between Commission staff and the various industries during the NAESB process, and the comments submitted to NAESB, we are proposing to allow far more flexibility in the structure and identification of tariffs. Companies may determine to structure their tariffs either using the existing tariff sheet format or as sections. Companies will also be given more flexibility to file tariffs either by dividing the tariff into sheet or sections and filing only the changed sheet or section, or for a wide range of tariff documents, by filing the entire tariff document for each change. In order to ensure that the Commission and the public have the ability to identify specific tariff provisions (either sections or pages), the version for each tariff filing will still need to be identified, but the versioning information has been simplified and will be included as metadata in the XML package, except for certain documents filed as PDFs.

1. Sheets or Section Filing Requirements

24. In order to compile the tariff database, the standards require companies to file tariff text as a specific data element. Companies will be permitted to choose whether to continue to number tariff provisions as individual tariff sheets (e.g., Original Sheet No. 1) or sections (e.g., 1.1.1).

25. We also do not believe there is a one size fits all approach to the way in which companies divide their tariffs in making tariff filings. Some individual rate schedules and agreements may be filed only once or revised only infrequently, while other rate schedules and tariffs may be extraordinarily large and revised frequently. Except as discussed in the following section with respect to open access tariffs, we therefore propose to allow companies to determine based on the nature of the tariff and frequency of filing whether to file tariffs by breaking the tariff into sheets or sections or by filing the tariff as an entire document. Companies that initially file using the entire document option will be allowed later to divide the tariff document into sections or sheets. However, we propose that, except with advance permission from the Office of Energy Market Regulation (or any successor name), a company that has already broken its tariff into sections or sheets, will not be able to recompile those sheets or sections and use the entire document option.

26. In order to facilitate database management, the NAESB standards provide that tariff text must be filed either using the RTF file format or the PDF file format.¹⁷ Tariffs filed under the entire document option may be filed either in RTF or PDF. Tariffs filed as sections or sheets must be filed in RTF, due to limitations on the ability to process and assemble PDF files.¹⁸

¹⁷ The requirements adopted by the Commission in Order No. 703 will apply to PDF formatted documents filed as tariff text. Tariffs filed in PDF format must use the print-to-pdf feature as opposed to an unsearchable scanned format, except that tariff documents existing only on paper may be scanned into PDF. Filing Via the Internet, Order No. 703, 72 FR 65659 (Nov. 23, 2007), FERC Stats. & Regs., Regulations Preambles ¶ 31,259, P 23 (2007). We, however, encourage filers that scan old paper tariff documents to use an optical character recognition program to convert the scanned file to text prior to filing, so that copy and paste and search functions may be used.

¹⁸ RTF is a text format that will enable the Commission's software to assemble quickly the sheets or sections into a complete tariff document. In contrast, PDF is not a textual format, and does not permit such processing.

2. Gas and Electric Open Access Transmission Tariffs

27. We are not proposing to permit the open access transmission tariffs for interstate natural gas pipelines and electric utilities to be filed using the entire document option for several reasons. Unlike individual service agreements or contracts that affect only the signatories to the agreements, the open access transmission tariffs affect a wide variety of customers and are the most frequently revised. Moreover, because of the breadth of these tariffs, and the need to review and research portions of these tariffs, it would not be efficient for staff or for the public to have these documents refiled in their entirety every time a company proposes to revise an individual tariff section or page.

28. We are therefore proposing revisions to §§ 35.9 and 154.102 to require that open access transmission tariffs, which will include other open access documents and documents of general applicability, such as ISO/RTO operating agreements and market rules, must be filed as sheets or sections. Because the electric OATTs are based on the Commission's pro forma OATT, we have specified the minimum required divisions for such filings. For non-ISO/RTO OATTs, the OATT must be divided at least at the section 1.0 level, with individual sections for each schedule or attachment. Because ISO/RTO OATTs are much more complex, we propose to require at a minimum that they be divided at the 1.1 level. In their comments to NAESB, the RTOs ask whether they can divide tariffs into smaller divisions, because of their complexity. We clarify that the proposed standards in the regulations are the minimum divisions only. We propose to permit, and encourage, filers to use even smaller divisions that are appropriate to their individual tariffs and filing patterns.

29. In addition, to aid electric utilities in filing their OATTs, we propose to post on our website a pro forma OATT divided into the largest allowable sections, as well as information that will help companies develop Microsoft Word macros to electronically divide tariffs at this level.

30. Because we have not specified a pro forma interstate natural gas tariff, the proposed regulation will require that the interstate natural gas pipeline tariffs filed as sections be divided so that each section includes only related subject matter and is of reasonable length. Negotiated rate agreements and other non-conforming service agreements need not be divided, but can be filed as entire documents.

3. Versioning

31. The Commission currently requires each tariff page to include a version number that can be used to identify the particular revision of that page (e.g., First Revised Sheet No. 1 would replace Original Sheet No. 1). Because tariff provisions change, often frequently, over time this convention is useful for identifying and referring to particular tariff provisions in orders. A number of the comments filed with NAESB maintain that the existing versioning requirement is unnecessarily complex for certain types of filings and urge us to eliminate the requirement to include versioning associated with every page or section of the tariff. The comments maintain that the XML schema includes a revised versioning requirement that would be satisfactory for identifying particular tariff provisions.

32. We recognize that in many proceedings, the official tariff designation is not used by the parties and may not be of critical importance. However, in proceedings in which past tariff language is of importance, the ability to have a unique reference to the precise tariff provision is still needed. As we move to electronic tariff filing, we believe that with the adoption of the standards our versioning requirement can be modified and made less complicated.

33. The XML schema requires that each sheet, section, or entire tariff be identified with a version number in an x.y.z format. The x.y.z format will accommodate the same level of identification as our existing nomenclature, including items such as squeezed and retroactive sheets. Some companies may want to continue this detailed approach to better identify the placement and relative position of tariff sheets and sections, and the x.y.z format will accommodate such identification. Other companies do not believe that their tariffs require such a detailed hierarchy of changes. As long as each tariff section, sheet, or entire document is identified uniquely, we propose to allow companies to choose how complex to make their identification. Companies, for example, may choose simply to numerically number each section, sheet, or entire tariff document as they file it, using just the x field.

34. The comments also raise questions about whether any such identification must continue to appear in the text of the filed documents. Except in the case of tariffs filed in PDF, we do not propose to require that identification be placed on the individual tariff revisions that are filed; companies however may choose to include such identification if they desire. Because the requisite versioning information is in the XML schema and will be made available to staff and the public in the tariff database, companies do not need to include that information in their filing. However, in order to ensure that the versioning information is available to the public on eLibrary, the Commission will use the metadata provided in the XML schema to generate a document on eLibrary that contains the appropriate versioning information. Because we are creating this document by electronically combining information from the database, the formatting of the versions and tariff text may not appear identical to the filing made by the company.

35. The only exception to this rule is for tariff documents filed using PDF. Because PDF is not a textual format and does not permit easy electronic manipulation, we cannot generate a document for eLibrary that contains the correct versioning information. For these documents, therefore, the first page of the tariff document must include the required information: Company name, tariff title (if applicable), and the appropriate version number.

4. Clean and Marked Tariff Changes as Attachments

36. As discussed above, the tariff text for use by the database will be filed as a separate data element. But, as discussed above, the Commission may not be able to generate a formatted version of that tariff text acceptable to the filer for inclusion in eLibrary. For this reason, the standards provide that companies will also include as an attachment to their filing a clean copy of the relevant tariff sheets, sections, or entire document formatted as the filer prefers.¹⁹ The clean version of the tariff text may be filed using any software currently approved by the Secretary of the Commission for eFiling.

¹⁹ The text of the tariff to be included in the database must, of course, match exactly the text of the clean copy of the tariff filed as an attachment. The standards also will require the company to include a non-formatted plain text copy of the tariff for search purposes.

37. The Commission's current interstate natural gas pipeline (§ 154.201) and electric utility regulations (§ 35.10), require companies to provide a marked version of the tariff text in the tariff filing indicating the changes and deletions made to the existing tariff text. The oil pipeline regulations (§ 341.3) provide for the use of special symbols to denote changes.

38. We propose to continue the requirement for filing marked versions of tariffs. We also are proposing to modify the symbols used by the oil pipelines so that the symbols can be entered into a find or search message box using keystrokes available on a keyboard. Tariff documents can now be filed as large sections or as entire documents. Although we are confident that filing companies will not intentionally make extraneous, unmarked changes to tariff text, we want to ensure that both staff and the public are not put in the position of having to read the entire tariff text of large sections or an entire document to ensure that unmarked changes were not made. As a precaution, therefore, we are proposing to revise our regulations to make clear that only the sections of the tariff document appropriately marked will be considered part of the filing. Revisions that are not marked will not be considered a part of the requested tariff revision and any acceptance of a filing by the Commission will not constitute acceptance of an unmarked tariff change.

5. Joint, Shared, and Section 206 Filings

39. An issue raised in the comments by the electric industry is how companies are to make joint and shared tariff filings and section 206 filings. Joint filings refer to tariffs applicable to more than one company. Shared tariffs refer to a tariff that can be amended by one or more parties. Shared tariffs principally refer to ISO or RTO tariffs, sections of which can be revised by the ISO and RTO as well as by individual transmission owners. Section 206 tariff filings again relate principally to ISOs and RTOs, which may not have the ability to make tariff filings under section 205 of the FPA, but have the right to make such filings under section 206 of the FPA. The comments are concerned that the filing process for such tariffs not be unduly complicated. We have developed approaches to the filing of these more complicated tariffs that we believe will ensure that all parties with rights can make appropriate filings without undue burden.

a. Joint Tariff Filings

40. Section 35.1(a) of the Commission's regulations establishes two methods by which public utilities that are parties to the same rate schedule may file the rate schedule with the Commission: (1) Each public utility can file the rate schedule itself, or (2) “or the rate schedule may be filed by one such public utility and all other parties having an obligation to file may post and file a certificate of concurrence.” ²⁰ Prior to Order No. 614, when filers made a single filing, Commission staff would copy the rate schedule or tariff for the number of joint filers, place the appropriate designations on the tariffs, and put them in the tariff books. In Order No. 614, the Commission stated in the preamble that “on joint services, each utility offering a service must file its own tariff sheets.” ²¹ Currently, we therefore receive a single filing usually from a designated filer with identical tariff sheets for each joint filing utility, except that each utility's tariff contains the appropriate sheet designation for that utility. Given the prevalence of joint tariff filings, the electric utilities request that they not be required to make separate tariff filings for each utility covered by the tariff, including all supporting materials, in place of the single filing now permitted.

²⁰ 18 CFR 35.1(a).

²¹ Designation of Electric Rate Schedule Sheets, Order No. 614, FERC Stats. & Regs. ¶ 31,096, at 31,503 (2000).

41. In the Commission's current state of software development, we are not in a position to permit a single designated filer to submit tariff sheets on behalf of multiple entities. We, however, recognize the inefficiency and confusion for the filer, the staff, and the public in having multiple identical filings made on behalf of different companies. We therefore have developed what we think is a reasonable approach for handling such filings that will minimize the burden on the filer but provide ready access to the tariff.

42. We propose to no longer require utilities to follow the Order No. 614 preamble instructions to file multiple copies of a tariff. Instead, the joint filers will be permitted to designate one filer to submit a single tariff filing for inclusion in its database that reflects the joint tariff, along with the requisite certificates of concurrence. The non-designated joint filers would include in their tariff database a tariff section consisting of a single page or section that would provide the appropriate name of the tariff and identify which utility is the designated filer for the joint tariff. In this way, the staff or the public will be able to find quickly the appropriate tariff in the database, without the need for multiple filings by each of the filers.

43. While this issue arose in the context of joint filings by public utilities, the solution proposed here should be equally applicable to other industries that have joint tariffs.

b. Shared Tariffs

44. Shared tariffs refer principally to ISO and RTO tariffs, portions of which may be revised by FPA section 205 filings by the ISO/RTO or other transmission owners. Depending on the tariff section involved, one party may have exclusive rights to modify the section or multiple parties may have rights to modify the section. The structure of all the ISO and RTO tariffs as well as their filings rights are different.

45. In order to file shared tariffs today, parties with joint filing rights have to share information about the tariff, such as the current section numbering and sheet designations as well as the text of the provisions. Some ISOs and RTOs provide in their tariffs that the ISO/RTO is responsible for administering the Transmission Tariff.²²

²² See Midwest ISO Transmission Tariff, Appendix K, § F. http://mktweb.midwestiso.org/publish/Document/469a41_10a26fa6c1e_-6d790a48324a/TOA%20(As%20Accepted%20on%2012-03-07%20EC07-89).pdf?action=download&_property=Attachment.

46. Electronic filing should provide parties with shared tariffs with greater opportunities to develop electronic filing methods that fit their respective tariff structure and filing rights: (1) Parties in organized markets can develop or commission filing software to be shared among those with filing rights that imposes restrictions on filing rights as applicable under the individual ISO or RTO tariff; (2) ISOs and RTOs can agree to make all filings on behalf of the members in order to maintain administrative control over the tariff; or (3) each of the respective parties with filing rights can continue to make individual filings as they do today by sharing certain relevant tariff and relevant metadata among the parties with shared rights.

47. Since the comments focus on the third option, individual filings by each company, we will describe how such filings can be made securely. The party initiating the filing (Company A) would need to have an eRegistered party (Filer) log-on to make the filing. The Filer would have to know Company A's company identification number and password. In order to make such a filing, the ISO and RTO would have to share with Company A its company identification number ²³ and tariff identifier used in the XML schema for the ISO or RTO's tariff along with other required metadata for making the filing.

²³ The ISO or RTO, however, would not have to share its password.

48. Currently, for some ISOs and RTOs, when a transmission owner makes a section 205 filing to revise an ISO or RTO tariff, the ISO or RTO is notified only through service. In order to provide greater security and more immediate notification to the ISO or RTO, we will provide an email to the ISO or RTO when the XML filing passes verification checks. Although we have not experienced unauthorized filings to date through our paper or eFiling system, this notification will ensure that the ISO or RTO can detect immediately any potential unauthorized filing. Moreover, because the person making the filing will be eRegistered and will be using the company identification number of the filer (Company A), we will be able to easily identify who made the filing in case any questions are raised.

c. Section 206 Filings Related to ISOs/RTOs

49. ISOs and RTOs sometimes have tariff or operating agreement provisions that require a certain percentage of stakeholder support for making FPA section 205 filings. As a result, if the requisite stakeholder approval is not obtained, ISOs and RTOs have retained rights to make filings pursuant to section 206 of the FPA, and may make a single filing under both section 205 and section 206.²⁴ In addition, transmission owners that are part of the RTO also may file complaints under FPA section 206 contending that the ISO or RTO tariff is unjust and unreasonable. In the comments included in the NAESB submission, a question was asked about the appropriate method of making such filings, in particular whether the section 206 filing should be made using the Commission's eFiling complaint mechanism, with the ISO or RTO filing through the eTariff to amend its tariff only if the Commission's ruling requires tariff changes.

²⁴ See, e.g., PJM Interconnection, LLC, 115 FERC ¶ 61,079 (2006).

50. For ISO or RTO transmission owners filing a complaint against the ISO or RTO, we think the complaint should be filed pursuant to the standard complaint mechanism. While these transmission owners may have legal rights to make section 205 filings to change certain aspects of the ISO or RTO tariff, they do not have any different rights than any other party to file complaints under section 206. If the Commission agrees with the complainant, the ISO or RTO would then be directed to submit a compliance filing through the eTariff portal to make the required tariff changes.

51. However, we propose that the RTO or ISO making a filing to revise its own tariff pursuant to section 206 should make such a filing through the eTariff portal with the appropriate tariff revisions and XML metadata. Because such a filing relates to the ISO's or RTO's own tariff, and the ISO or RTO has a reserved right to make such a section 206 filing, such a filing is more similar to a standard tariff filing by a utility as opposed to a complaint filing. In addition, since RTOs or ISOs may make a single filing in one proceeding under both sections 205 and 206, it seems appropriate to have such a filing made using the standard eTariff mechanism.

D. Other Business Practice Changes

1. Electronic Service

52. Many parties requested that once an electronic tariff mechanism is in place that they be able to serve their initial tariff filings electronically. In the 2005 Notice, the Commission stated that it would permit electronic service for initial filings.²⁵ The proposed changes to our regulations will permit electronic service according to the same procedures and protocols used for other forms of service under the Commission's regulations.²⁶ Customers and state agencies wishing to receive service will be required to provide the company with an applicable email address (since a service list will not exist at the time of an initial filing). Any customer believing it is unable to receive electronic service will need to request a waiver of electronic service as provided in the regulations.²⁷

²⁵ 112 FERC ¶ 61,043 at P 7.

²⁶ 18 CFR 385.2010.

²⁷ 18 CFR 390.3.

2. Attachment Documents

53. Under the standards, all attachments to a filing, such as the transmittal letter, testimony, cost-of-service statements, will be included as part of the XML package. The attachments must meet the formatting requirements for any other eFiled document, as set forth by the Secretary of the Commission.

3. Withdrawal of Pending Tariff Filings and Amendments to Tariff Filings

54. As discussed in the 2004 NOPR, the electric, gas, and oil industries have different procedures for withdrawing and amending a tariff filing. For example, the regulations governing oil pipelines permit withdrawal of proposed tariff filings before the tariff filing is effective,²⁸ while the regulations for electric and gas companies do not address withdrawal of tariff filings prior to suspension.²⁹ Because tariff withdrawal and amendment filings affect the status of tariff proposals, standardization of these procedures is needed in order to effectuate an electronic tariff system. We are therefore continuing our proposal from the 2004 NOPR to allow a company to withdraw in its entirety a tariff filing, which has not become effective, and upon which no Commission or delegated order has been issued, by filing a withdrawal motion with the Commission. The withdrawal will become effective, and the filing deemed withdrawn, at the end of 15 days, so long as no answer in opposition to the withdrawal motion is filed within that period and the Commission has not acted to deny the withdrawal motion. If such an answer in opposition is made, the withdrawal is not effective until a Commission or delegated order accepting the withdrawal is issued. In order to ensure that the tariff database remains accurate, such withdrawal filings will need to be made through the eTariff portal using the XML schema so that the appropriate data elements can be revised.

²⁸ 18 CFR 341.13.

²⁹ 18 CFR 35.17; 154.205.

55. Electric utilities and interstate pipelines file amendments or modifications to tariff provisions to make substantive changes to their filings as well as to correct minor errors. Because such modifications can have substantive effect, the Commission is proposing to revise § 35.17 and § 154.205 to make clear that the filing of an amendment or modification to a tariff provision will toll the period for action on the prior filing and establish a new period for action.³⁰

³⁰ As we stated in the 2004 NOPR, we recognize that in the past, we have sought to process minor changes filed in NGA cases within the 30-day statutory period, and we will continue to try to do so for those amendments that are not significant or do not create a major substantive difference in the tariff proposal.

4. Motions

56. Several types of motions may be made by regulated entities that do not include tariff sheets, but that affect the status of a tariff filing. For example, interstate natural gas pipelines may file motions to move suspended tariff sheets into effect, and other regulated companies may file motions to change the effective dates of tariff filings or to withdraw tariff filings. Because such filings affect the metadata associated with the tariff filing, such motions must be filed through the eTariff portal using the XML schema.

5. Rate Sheets for Tariff Filings by Intrastate and Hinshaw Pipelines

57. Under the Commission's current regulations in section 284, subparts C and G, an intrastate or Hinshaw pipeline must provide the Commission with an election of how it will determine its interstate service rates. An intrastate or Hinshaw pipeline also is required to file with the Commission, within 30 days of the commencement of service, a statement of operating conditions, which includes the rate election it has made, but which currently does not require a statement of the interstate rates to be charged. The interstate rates are included only as part of the overall filing.

58. In implementing the proposal for electronic filing tariff filing, the statement of operating conditions will be placed in the tariff database. To facilitate easier access by the Commission and the public to the interstate service rates of intrastate and Hinshaw pipelines, we are proposing to revise § 284.123 of the regulations to require intrastate and Hinshaw pipelines to include a statement of their interstate service rates as part of the statement of operating conditions that will appear in the tariff database. Including a statement of interstate service rates in the statement of operating conditions will ensure that all relevant information related to interstate service will be accessible in the tariff database.

E. Transition Procedures

1. Baseline Tariff Filings

59. Each utility will be required to make a filing to establish its baseline tariffs. In the 2005 Notice, we proposed to reduce the burden in making the baseline filing and limit such filings to tariffs of generally applicability. As applied to filings by electric utilities, the baseline filing would include open access transmission tariffs (OATTs), power sales tariffs available to any customer, and market-based rate tariffs. Individually negotiated rate schedules and agreements would not have to be included as part of the baseline filing. Interstate natural gas pipelines would have to file their existing Volume No. 1 tariffs, but would not have to file special rate schedules included in Volume No. 2 tariffs, or any existing negotiated rate or non-conforming service agreements. Intrastate pipelines would have to file their statement of operating conditions including their interstate service rates. Oil pipelines would need to file their tariff publications. Other pre-existing tariffs, rate schedules, and agreements do not need to be included in the baseline filing, although companies are free to include these agreements in their baseline filings, and we would encourage them to do so.

60. After implementation, all new tariffs and rates schedules would have to be filed using the XML schema. Existing tariffs and rate schedules not included as part of the baseline filing would need to be filed electronically only when they are revised or amended.

61. We recognize that some of the pre-existing tariffs and rates schedules may not exist in electronic form. Companies having or electing to file such agreements do not need to retype the entire agreement. They may scan these agreements into PDF format and file them in that fashion as an entire document. Although not required, companies should run an optical character recognition program (OCR) to convert these scanned documents into text so that the text of the tariff can be searched and copied. We recognize that OCR may not work well on some older documents, but even if the OCR version is not filed as the tariff text, it should be included in the plain text field of the XML schema for search purposes.

62. The baseline tariff filing is not a substantive tariff revision, and will be used only for placing generally available tariffs into the database. The baseline filing, therefore, should reflect the existing effective tariff, with no proposed substantive changes or revisions. The baseline tariff filings will be subject to notice and comment solely to permit customers to ensure that the proposed baseline tariff is an accurate reflection of the effective tariff. No protests involving other issues, such as the merits of various sections of the tariff, will be considered. We also propose a one-time delegation of authority to the Director of OEMR to rule on protests.

63. If a regulated entity has a pending or suspended tariff change filing at the time of the filing of the baseline tariff, the regulated entity should not file these pending or suspended tariff sections as part of the baseline tariff filing. When the Commission acts on pending or suspended tariffs provisions, the companies will file the tariff provisions through the eTariff portal for inclusion in the database.

2. Testing, Implementation and Further Procedures

64. We recognize that after the final rule, companies and third-party vendors developing tariff filing software will need time for development as well as a mechanism for testing their software to make sure that their filings will be accepted by the Commission. We will therefore provide a testing site where companies can make test electronic filings to determine whether their XML packages can be received and can be parsed in order to determine if the XML package can be opened and broken into its constituent parts, and to verify whether the metadata supplied meets the requirements of the XML schema.

65. Further, as the development process continues, we think it will be useful to continue the dialog among FERC staff and the industries involved, perhaps through the good offices of NAESB, to help the industries better understand the use of the code values as well as to discuss issues that may arise regarding methods of implementing the standards. Commission staff also will be available to answer individual questions about the use of the XML schema.

66. While we would like to move as quickly as possible to electronic tariff filing and the tariff database (and we think the industries also would like to take advantage of the ease of electronic filing and electronic service), we recognize that we need to provide sufficient time for software development and testing to ensure that the filing of tariffs electronically has as few bugs as possible. As a general matter, we envision that compliance with the electronic filing should be able to begin within six months to one year after the final rule is issued, but we will not propose a firm deadline or structure for compliance at this point.

III. Information Collection Statement

67. The Office of Management and Budget (OMB) regulations require approval of certain information collection and data retention requirements imposed by agency rules.³¹ Upon approval of a collection of information and data retention, OMB will assign an OMB control number and an expiration date. Respondents subject to the filing requirements of this rule will not be penalized for failing to respond to these collections of information unless the collections of information display a valid OMB control number.

³¹ 5 CFR 1320.11.

68. The information provided under Part 35 is identified for information collection and records retention purposes as FERC-516. Data collection FERC-516 applies to all reporting requirements covered in 18 CFR Part 35 including electric rate schedule filings, market power analysis, tariff submissions, triennial reviews, and reporting requirements for changes in status for public utilities with market-based rate authority. The information provided under Parts 154 and 284 is identified for information collection and records retention purposes as FERC-545. Data collection FERC-545 applies to all reporting requirements covered in 18 CFR Part 154 including natural gas rate schedule filings, and tariff submissions. The information provided under Part 153 is identified for information collection and records retention purposes as FERC-539. The information provided for under Part 341 is identified for information collection and records retention purposes as FERC-550. Data collection FERC-550 applies to all reporting requirements covered in 18 CFR Part 341 including oil pipeline tariffs, indexes of tariffs, rates, and tariff publications. The Commission is submitting these information collection requirements to OMB under section 3507(d) of the Paperwork Reduction Act.³² Comments are solicited on the Commission's need for this information, whether the information will have practical utility, the accuracy of the provided burden estimates, ways to enhance the quality, utility, and clarity of the information to be collected, and any suggested methods for minimizing the respondent's burden, including the use of automated information techniques.

³² 44 U.S.C. 3507(d) (2000).

Burden Estimates: As discussed herein, the Commission proposes amending its regulations to require that all tariffs, tariff revisions and rate change applications for natural gas, oil pipeline and public utilities be filed electronically based on standards developed by the electric, gas, and oil industries through the NAESB process. During the NAESB process, the industries opted for the flexibility provided by the standards in place of using the filing software developed by the Commission. The standards provide companies with the ability to obtain software, or modify existing tariff maintenance software, that better integrates with their individual tariff maintenance and business needs. The use of the NAESB standards, in place of Commission distributed software, also provides an open framework for third-party software developers to develop filing applications or processes, which, by handling multiple parties' filings, may prove less expensive than the cost to each company of building its own system. Because cost estimates for such third party programs are not available, the following burden estimates reflect the cost to an individual company of obtaining software, including open access software, and programming time, that is sufficient to meet the requirements of the regulation, as well as the cost of making the required baseline filing. These costs are one-time compliance costs. Individual companies' costs may differ depending on their internal business needs and the features they need. In addition, the use of electronic filing will save the costs of making and serving paper filings on an ongoing basis due to savings in mail and messenger delivery and copying, and we provide estimates of those savings below for one year. The public reporting and records retention burdens for the proposed reporting requirements and the records retention requirement are as follows.³³

³³ These burden estimates apply only to this NOPR and do not reflect upon all of FERC-516, FERC-545, FERC-539 or FERC-550.

Baseline Tariff—Hours
Data collection | Number of respondents | Hours per tariff | Total hours | Installation hours | Total install hours | Total hours
FERC-516:
Utilities | 152 | 9 | 1368 | 16 | 2432 | 3800
Marketers | 984 | 5 | 4920 | 16 | 7872 | 12792
RTOs/ISOs | 6 | 362 | 2172 | 24 | 144 | 2316
FERC-545:
Small | 96 | 7 | 672 | 16 | 1536 | 2208
Pipelines:
Large | 60 | 18 | 1080 | 16 | 960 | 2040
Pipelines:
NGPA | 200 | 6 | 1200 | 16 | 3200 | 4400
FERC-550 Oil | 200 | 9 | 1800 | 16 | 3200 | 5000
Totals |  |  | 13212 |  | 19344 | 32556

Total Annual Hours for Collections: 32,556.

Baseline Tariff—Costs
Data collection | Number of respondents | Cost per tariff | Total filing cost | Software purchase & installation | Total cost
FERC-516:
Utilities | 152 | $211 | $32,027 | $1,690 | $256,880
Marketers ³⁴ | 984 | 109 | 107,448 | 845 | 831,480
RTOs/ISOs | 6 | 8,345 | 50,072 | 2,450 | 14,700
FERC-545:
Small Pipelines | 96 | 171 | 16,429 | 1,690 | 162,240
Large Pipelines | 60 | 423 | 25,391 | 1,690 | 101,400
NGPA | 200 | 132 | 26,484 | 1,690 | 338,000
FERC-550 Oil | 200 | 206 | 41,152 | 1,690 | 338,000
Totals |  |  | 299,003 |  | 2,042,700
Combined Total |  |  |  |  | 2,341,703

Going Forward Cost Savings Per Annum
| Total number of filings | Cost per filing | Total cost
Oil | 689 | $110 | $75,790
Electric | 4,445 | 406 | 1,804,670
Gas | 2,548 | 406 | 1,034,488
Total |  |  | 2,914,948

OMB's regulations require it to approve certain information collection requirements imposed by an agency rule. The Commission is submitting notification of this proposed rule to OMB. If the proposed requirements are adopted they will be mandatory requirements.

³⁴ The costs for marketers assumes that affiliated marketers will share a single installation.

Title: FERC-516, Electric Rate Schedules and Tariff Filings; FERC-545, Gas Pipeline Rates: Rate Change (Non Formal); FERC-549 Gas Pipeline Rates: NGPA Title III Transactions; and FERC-550 Oil Pipeline Rates: Tariff Filings.

Action: Proposed Collections.

OMB Control Nos. 1902-0096, 1902-0154, 1902-0062 and 1902-0089.

Respondents: Business or other for profit.

Frequency of responses: On occasion.

Necessity of the Information:

69. The Federal Energy Regulatory Commission is proposing amendments to its regulations to require that all tariffs and tariff revisions and rate change applications for the public utility natural gas pipeline and oil pipeline industries be filed electronically with the Commission in lieu of paper. Electronically filed tariffs and rate case filings should improve the efficiency of the administrative process for tariff and rate case filings, by providing time and resource savings for all stakeholders. Respondents should see savings by reducing the number of personnel required to assemble and submit paper filings, and a reduction in duplication and mailing expenses. Users of the information will be able to access the data at lower costs due to efficiencies provided by electronic filing and retrieval. Data filed electronically can be processed faster than paper filings. This is due in part because procedural steps related to verifying the applicant, receiving the tariff filing, routing the tariff filing, entering the tariff filing into FERC's official record, public tariff maintenance, public access to the tariff and tariff filing, and confirming receipt of the tariff filing largely can be automated. Also the speed at which tariff filings can be processed electronically can increase the integrity of the data by speeding the process by which the applicants and public can view the filings and identify errors, and facilitating rapid filing of corrections. This capability is beneficial as many tariff filings involve statutory processing deadlines.

70. The Proposed rule will assist the Commission's efforts to comply with the Government Paperwork Elimination Act (GPEA) by developing the capability to file electronically with the Commission via the Internet with uniform formats using software that is readily available and easy to use and also achieve the President's Management Agenda initiatives of expanding electronic government.

Internal Review: The Commission has conducted an internal review of the public reporting burden associated with the collections of information and assured itself, by means of internal review, that there is specific, objective support for the information collection burden estimates. Moreover, the Commission has reviewed the collections of information proposed by this NOPR and has determined that these collections of information are necessary and conform to the Commission's plans, as described in this rule, for the collection, efficient management, and use of the required information.³⁵ Interested persons may obtain information on the reporting requirements by contacting the following: Federal Energy Regulatory Commission, 888 First Street, NE., Washington, DC 20426, [Attention: Michael Miller, Office of the Executive Director, Phone: (202) 502-8415, fax: (202) 273-0873, e-mail: michael.miller@ferc.gov.]

³⁵ See 44 U.S.C. 3506(c). (2000).

71. For submitting comments concerning the collections of information and the associated burden estimate(s), please send your comments to the contact listed above and to the Office of Information and Regulatory Affairs, Office of Management and Budget, 725 17th Street, NW., Washington, DC 20503 [Attention: Desk Officer for the Federal Energy Regulatory Commission, phone (202) 395-4650, fax: (202) 395-7285. Due to security concerns, comments should be sent electronically to the following e-mail address: oira_submission@omb.eop.gov. Please reference the docket number of this rulemaking in your submission.

IV. Environmental Analysis

72. The Commission is required to prepare an Environmental Assessment or an Environmental Impact Statement for any action that may have a significant adverse effect on the human environment.³⁶ The Commission has categorically excluded certain actions from these requirements as not having a significant effect on the human environment. The actions proposed here fall within categorical exclusions in the Commission's regulations for rules that are clarifying, corrective, or procedural, for information gathering, analysis, and dissemination, and for sales, exchange, and transportation of natural gas that requires no construction of facilities. Therefore, an environmental assessment is unnecessary and has not been prepared in this NOPR.

³⁶ Regulations Implementing the National Environmental Policy Act, Order No. 486, 52 FR 47897 (Dec. 17, 1987), FERC Stats. & Regs. ¶ 30,783 (1987).

V. Regulatory Flexibility Act Certification

73. The Regulatory Flexibility Act of 1980 (RFA) ³⁷ generally requires a description and analysis of final rules that will have significant economic impact on a substantial number of small entities. The proposed rule will be applicable to all entities regulated by the Commission, a small number of which may be small businesses. The Commission finds that the regulations proposed here should not have a significant impact on these few small businesses as they should be able to acquire relevant software. Software to create XML files is available from several Internet Web sites as shareware or subject to low-cost licensing options. Moreover, by eliminating the requirement to file numerous paper copies of tariffs and documents associated with rate filings, these regulations are designed to reduce the filing burden on all companies, including small businesses. Accordingly, the Commission finds that these regulations will not impose a significant economic impact on small businesses and no regulatory flexibility analysis is required pursuant to § 603 of the RFA.

³⁷ 5 U.S.C. 601-612.

VI. Comment Procedures

74. The Commission invites interested persons to submit comments on the matters and issues proposed in this notice to be adopted, including any related matters or alternative proposals that commenters may wish to discuss. Comments are due May 29, 2008. Comments must refer to Docket No. RM01-5-000, and must include the commenter's name, the organization they represent, if applicable, and their address in their comments.

75. The Commission encourages comments to be filed electronically via the eFiling link on the Commission's Web site at http://www.ferc.gov. The Commission accepts most standard word processing formats. Documents created electronically using word processing software should be filed in native applications or print-to-PDF format and not in a scanned format. Commenters filing electronically do not need to make a paper filing.

76. Commenters that are not able to file comments electronically must send an original and 14 copies of their comments to: Federal Energy Regulatory Commission, Secretary of the Commission, 888 First Street, NE., Washington, DC, 20426.

77. All comments will be placed in the Commission's public files and may be viewed, printed, or downloaded remotely as described in the Document Availability section below. Commenters on this proposal are not required to serve copies of their comments on other commenters.

VII. Document Availability

78. In addition to publishing the full text of this document in the Federal Register, the Commission provides all interested persons an opportunity to view and/or print the contents of this document via the Internet through FERC's Home Page (http://www.ferc.gov) and in FERC's Public Reference Room during normal business hours (8:30 a.m. to 5 p.m. Eastern time) at 888 First Street, NE., Room 2A, Washington DC 20426.

79. From FERC's Home Page on the Internet, this information is available on eLibrary. The full text of this document is available on eLibrary in PDF and Microsoft Word format for viewing, printing, and/or downloading. To access this document in eLibrary, type the docket number excluding the last three digits of this document in the docket number field.

80. User assistance is available for eLibrary and the FERC's Web site during normal business hours from FERC Online Support at 202-502-6652 (toll free at 1-866-208-3676) or e-mail at ferconlinesupport@ferc.gov, or the Public Reference Room at (202) 502-8371, TTY (202) 502-8659. E-mail the Public Reference Room at public.referenceroom@ferc.gov.

List of Subjects

18 CFR Part 35

Electric power rates, Electric utilities, Reporting and recordkeeping requirements, Electricity, Incorporation by reference.

18 CFR Part 131

Electric power.

18 CFR Part 154

Natural gas, Pipelines, Reporting and recordkeeping requirements, Natural gas companies, Rate schedules and tariffs.

18 CFR Part 157

Administrative practice and procedure, Natural gas, Reporting and recordkeeping requirements.

18 CFR Part 250

Natural gas, Reporting and recordkeeping requirements.

18 CFR Part 281

Natural gas, Reporting and recordkeeping requirements.

18 CFR Part 284

Continental shelf, Natural gas, Reporting and recordkeeping requirements, Incorporation by reference.

18 CFR Part 300

Administrative practice and procedure, Electric power rates, Reporting and recordkeeping requirements, Electricity.

18 CFR Part 341

Maritime carriers, Pipelines, Reporting and recordkeeping requirements.

18 CFR Part 344

Pipelines, Reporting and recordkeeping requirements.

18 CFR Part 346

Pipelines, Reporting and recordkeeping requirements.

18 CFR Part 347

Pipelines, Reporting and recordkeeping requirements.

18 CFR Part 348

Pipelines, Reporting and recordkeeping requirements.

18 CFR Part 375

Authority delegations (Government agencies), Seals and insignia, Sunshine Act, Electric power rates, Electric utilities, Reporting and recordkeeping requirements.

18 CFR Part 385

Administrative practice and procedure, Electric power, Penalties, Pipelines, Reporting and recordkeeping requirements.

By direction of the Commission.
Kimberly D. Bose,
Secretary.

In consideration of the foregoing, the Commission proposes to amend Parts 35, 131, 154, 157, 250, 281, 284, 300, 341, 344, 346, 347, 348, 375 and 385, Chapter I, Title 18, Code of Federal Regulations, as follows.

PART 35—FILING OF RATE SCHEDULES AND TARIFFS

1. The authority citation for part 35 continues to read as follows:

Authority: 16 U.S.C. 791a-825r, 2601-2645; 31 U.S.C. 9701; 42 U.S.C. 7101-7352.

§ 35.1 [Amended]

2. Section 35.1 is amended as follows:

a. In paragraphs (b) and (c) remove all references to “supplement”.

b. In paragraph (c), the words “Notices of Cancellation or Termination” are removed and the words “cancellation or termination” are added in their place.

3. Section 35.2 is amended as follows:

a. In paragraph (b), remove and reserve footnote 1.

b. Paragraphs (c), (d), and (e) are redesignated as paragraphs (d), (e), and (f) respectively.

c. In redesignated paragraphs (d) and (f), the words “rate schedule” are removed and the words “rate schedule or tariff” are added in their place.

d. Paragraph (c) is added, and redesignated paragraph (e) is revised to read as follows:

§ 35.2 Definitions.

* * * * *

(c) Tariff. The term “tariff” means a compilation of rate schedules, service agreements, and other schedules of a public utility.

* * * * *

(e) Posting. (1) The term “posting” as used in this part shall mean:

(i) Keeping a copy of every rate schedule, service agreement, or tariff of a public utility as currently on file, or as tendered for filing, with the Commission open and available during regular business hours for public inspection in a convenient form and placed at the public utility's principal and district or division offices in the territory served, and

(ii) Serving each purchaser under a rate schedule, service agreement, or tariff either electronically or by mail in accordance with the service regulations in part 385 of this chapter with a copy of the rate schedule, service agreement, or tariff. Posting shall include, in the event of the filing of increased rates or charges, serving either electronically or by mail in accordance with the service regulations in part 385 of this chapter each purchaser under a rate schedule or schedules proposed to be changed and to each State Commission within whose jurisdiction such purchaser or purchasers distribute and sell electric energy at retail, a copy of the rate schedule showing such increased rates or charges, comparative billing data as required under this part, and, if requested by a purchaser or State Commission, a copy of the supporting data required to be submitted to this Commission under this part. Upon direction of the Secretary, the public utility shall serve copies of rate schedules, service agreements, or tariffs, and supplementary data, upon designated parties other than those specified herein.

(2) Unless it seeks a waiver of electronic service, each customer, State Commission, or other party entitled to service under this paragraph (e) must notify the company of the e-mail address to which service should be directed. A customer, State Commission, or other party may seek a waiver of electronic service by filing a waiver request under part 390 of this chapter providing good cause for its inability to accept electronic service.

* * * * *

4. Section 35.3(a) is revised to read as follows:

§ 35.3 Notice requirements.

(a) Rate schedules or tariffs. All rate schedules or tariffs or any part thereof shall be tendered for filing with the Commission and posted not less than sixty days nor more than one hundred-twenty days prior to the date on which the electric service is to commence and become effective under an initial rate schedule or the date on which the filing party proposes to make any change in electric service and/or rate, charge, classification, practice, rule, regulation, or contract effective as a change in rate schedule, except as provided in paragraph (b) of this section, or unless a different period of time is permitted by the Commission. Nothing herein shall be construed as in any way precluding a public utility from entering into agreements which, under this section, may not be filed at the time of execution thereof by reason of the aforementioned sixty to one hundred-twenty day prior filing requirements. The proposed effective date of any rate schedule or tariff filing having a filing date in accordance with § 35.2(d) may be deferred by making a filing requesting deferral prior to its acceptance by the Commission.

* * * * *

5. Section 35.7 is revised to read as follows:

§ 35.7 Electronic filing requirements.

(a) General rule. All filings made in proceedings initiated under this part must be made electronically, including tariffs, rate schedules, service agreements, and contracts, or parts thereof, and material that relates to or bears upon such documents, such as cancellations, amendments, withdrawals, termination, or adoption of tariffs. Paper submittals are not required.

(b) Requirement for signature. All filings must be signed in compliance with the following:

(1) The signature on a filing constitutes a certification that: the contents are true and correct to the best knowledge and belief of the signer; and that the signer possesses full power and authority to sign the filing.

(2) A filing must be signed by one of the following:

(i) The person on behalf of whom the filing is made;

(ii) An officer, agent, or employee of the company, governmental authority, agency, or instrumentality on behalf of which the filing is made; or,

(iii) A representative qualified to practice before the Commission under § 385.2101 of this chapter who possesses authority to sign.

(3) All signatures on the filing or any document included in the filing must comply, where applicable, with the requirements in part 385 of this chapter with respect to sworn declarations or statements and electronic signatures.

(c) Format requirements for electronic filing. The requirements and formats for electronic filing are listed in instructions for electronic filing and for each form. These formats are available on the Internet at http://www.ferc.gov and can be obtained at the Federal Energy Regulatory Commission, Public Information and Reference Branch, 888 First Street, NE., Washington, DC 20426.

6. In § 35.8, the section heading is revised to read as set forth below, paragraph (b) is removed, and the designation “(a)” is removed from paragraph (a).

§ 35.8 Protests and interventions by interested parties.

* * * * *

7. Section 35.9 is revised to read as follows:

§ 35.9 Requirements for filing rate schedules and tariffs.

(a) All rate schedules, tariffs, and service agreements may be filed either by dividing the rate schedule, tariff, or agreements into individual tariff sheets, or tariff sections, or as an entire document except as provided in paragraphs (b) and (c) of this section.

(b) Open Access Transmission Tariffs (OATT) filed by utilities that are not Independent System Operators or Regional Transmission Organizations must be filed either as individual sheets or sections. If filed as sections, the sections must be no larger than the 1.0 level with single sections for each schedule or attachment. Individual agreements that are part of the OATT may be filed as entire documents.

(c) Open Access Transmission Tariffs and other open access documents filed by Independent System Operators or Regional Transmission Organizations must be filed either as individual sheets or sections. If filed as sections, the sections must be no larger than the 1.1 level including schedules or attachments. Individual agreements that are part of the OATT may be filed as entire documents.

8. In § 35.10, paragraphs (b) and (c) are revised to read as follows:

§ 35.10 Form and style of rate schedules and tariffs.

* * * * *

(b) At the time a public utility files with the Commission and posts under this part to supersede, supplement, or otherwise change the provisions of a rate schedule, tariff, or service agreement previously filed with the Commission under this part, in addition to the other requirements of this part, it must list in the transmittal letter the pages or sections revised and file a marked version of the rate schedule or tariff pages or sections showing additions and deletions. New language must be marked by either highlight, background shading, bold text, or underlined text. Deleted language must be marked by strike-through.

(c) In any filing to supersede, supplement, or otherwise change the provisions of a rate schedule, tariff, or service agreement previously filed with the Commission under this part, only those revisions appropriately designated and marked under paragraph (b) of this section constitute the filing. Revisions to unmarked portions of the rate schedule or tariff are not considered part of the filing nor will any acceptance of the filing by the Commission constitute acceptance of such unmarked changes.

§ 35.10a [Amended]

9. In § 35.10a(b), the word “§ 35.10(b)” is removed and the word “§ 35.7” is added in its place.

§ 35.11 [Amended]

10. In § 35.11, the words “purchasers under other rate schedules” are removed and the words “purchasers under other rate schedules or tariff provisions” are added in their place.

11. Amend § 35.13 as follows:

a. In paragraph (a) introductory text, remove the reference to “supplement,”.

b. In paragraph (c)(1) introductory text, remove the reference to “or supplemented”.

c. Revise the section heading to read as follows:

§ 35.13 Filing of changes in rate schedules or tariffs.

* * * * *

12. In § 35.15, paragraph (a), the first sentence is revised to read as follows:

§ 35.15 Notices of cancellation or termination.

(a) General rule. When a rate schedule or tariff or part thereof required to be on file with the Commission is proposed to be cancelled or is to terminate by its own terms and no new rate schedule or tariff or part thereof is to be filed in its place, a filing must be made to cancel such rate schedule or tariff at least sixty days but not more than one hundred-twenty days prior to the date such cancellation or termination is proposed to take effect. * * *

* * * * *

§ 35.16 [Amended]

13. In § 35.16, the words “on the form indicated in § 131.51 of this chapter” are removed and the words “with a tariff consistent with the electronic filing requirements in § 35.7 of this part” are added in their place.

14. Section 35.17 is amended as follows:

a. Paragraphs (a), (b), and (c) are redesignated as paragraphs (c), (d), and (e), respectively.

b. The section heading is revised, and new paragraphs (a) and (b) are added to read as follows:

§ 35.17 Withdrawals and amendments of rate schedules or tariff filings.

(a) Withdrawals of rate schedule or tariff filings prior to Commission action.

(1) A public utility may withdraw in its entirety a rate schedule or tariff filing that has not become effective and upon which no Commission or delegated order has been issued by filing a withdrawal motion with the Commission. Upon the filing of such motion, the proposed rate schedule or tariff sections will not become effective under section 205(d) of the Federal Power Act in the absence of Commission action making the rate schedule or tariff filing effective.

(2) The withdrawal motion will become effective, and the rate schedule or tariff filing will be deemed withdrawn, at the end of 15 days from the date of filing of the withdrawal motion, if no answer in opposition to the withdrawal motion is filed within that period and if no order disallowing the withdrawal is issued within that period. If an answer in opposition is filed within the 15 day period, the withdrawal is not effective until an order accepting the withdrawal is issued.

(b) Amendments or modifications to rates or tariff sections prior to Commission action on the filing. A public utility may file to amend or modify a rate or tariff section contained in a rate schedule or tariff filing that has not become effective and upon which no Commission or delegated order has yet been issued. Such filing will toll the notice period in section 205(d) of the Federal Power Act for the original filing, and establish a new date on which the entire filing will become effective, in the absence of Commission action, no earlier than 61 days from the date of the filing of the amendment or modification.

* * * * *

§ 35.21 [Amended]

15. In § 35.21, footnote 5, to the words “footnote 1 to” are removed.

§ 35.23 [Amended]

16. In § 35.23, paragraph (b)(1)(ii), the word “pages” is removed and the words “pages or sections” are added in their place.

§§ 35.1, 35.4, 35.5, 35.6, 35.11, 35.12, 35.13, and 35.17 [Amended]

17. In addition to the amendments set forth above, in 18 CFR part 35, the following nomenclature changes are made to the sections indicated:

a. In §§ 35.1(b) and (c), 35.4, 35.6, 35.11, 35.12(a), 35.13(a), 35.13(a)(1), 35.13(a)(2)(iii), 35.13(b)(1), 35.13(c)(1), 35.17(c), 35.17(d), and 35.17(e), all references to “rate schedule” are removed and “rate schedule or tariff” is added in their place.

b. In the headings of §§ 35.17(c), 35.17(d), and 35.17(e), all references to “rate schedules” are removed and “rate schedules or tariffs” is added in their place.

PART 131—FORMS

18. The authority citation for part 131 continues to read as follows:

Authority: 16 U.S.C. 791a-825r, 2601-2645; 31 U.S.C. 9701; 42 U.S.C. 7101-7352.

§§ 131.51 and 131.53 [Removed and Reserved]

19. Sections 131.51 and 131.53 are removed and reserved.

§ 131.52 [Amended]

20. In § 131.52, the words “(An original and one conformed copy to be submitted)” are removed.

PART 154—RATE SCHEDULES AND TARIFFS

21. The authority citation for part 154 continues to read as follows:

Authority: 15 U.S.C. 717-717w; 31 U.S.C. 9701; 42 U.S.C. 7102-7352.

§ 154.2 [Amended]

22. In § 154.2, paragraph (b), the words “either in book form or” are removed.

23. Section 154.4 is revised to read as follows:

§ 154.4 Electronic filing of tariffs and related materials.

(a) General rule. All filings made in proceedings initiated under this part must be made electronically, including tariffs, rate schedules, service agreements, and contracts, or parts thereof, and material that relates to or bears upon such documents, such as cancellations, amendments, withdrawals, termination, or adoption of tariffs. Paper submittals are not required.

(b) Requirement for signature. All filings must be signed in compliance with the following:

(1) The signature on a filing constitutes a certification that the contents are true to the best knowledge and belief of the signer, and that the signer possesses full power and authority to sign the filing.

(2) A filing must be signed by one of the following:

(i) The person on behalf of whom the filing is made;

(ii) An officer, agent, or employee of the company, governmental authority, agency, or instrumentality on behalf of which the filing is made; or,

(iii) A representative qualified to practice before the Commission under § 385.2101 of this chapter who possesses authority to sign.

(3) All signatures on the filing or any document included in the filing must comply, where applicable, with the requirements in § 385.2005 of this chapter with respect to sworn declarations or statements and electronic signatures.

(c) Format requirements for electronic filing. The requirements and formats for electronic filing are listed in instructions for electronic filing and for each form. These formats are available on the Internet at http://www.ferc.gov and can be obtained at the Federal Energy Regulatory Commission, Public Information and Reference Branch, 888 First Street, NE., Washington, DC 20426.

§ 154.5 [Amended]

24. In § 154.5, the words “375.307 (b)(2)” are removed and the words “part 375” are added in their place.

§ 154.101 [Removed and Reserved]

25. Section 154.101 is removed and reserved.

26. Section 154.102 is revised to read as follows:

§ 154.102 Requirements for filing rate schedules and tariffs.

(a) All rates schedules, tariffs, and service agreements may be filed either by dividing the rate schedule, tariff, or agreement into individual tariff sheets, or tariff sections, or as an entire document except as provided in paragraph (b) of this section.

(b) Open Access Transmission Tariffs must be filed either as individual sheets or sections. If filed as sections, each section must include only material of related subject matter and must be of reasonable length. Individual negotiated rate agreements, non-conforming service agreements, or other agreements that are included in the tariff may be filed as entire documents.

27. Section 154.104 is revised to read as follows:

§ 154.104 Table of contents.

The table of contents must contain a list of the rate schedules, sections of the general terms and conditions, and other sections in the order in which they appear, showing the sheet number of the first page of each section or the section number. The list of rate schedules must consist of: The alphanumeric designation of each rate schedule, a very brief description of the service, and the sheet number of the first page of each rate schedule or the section number.

§ 154.106 [Amended]

28. In § 154.106, paragraph (b) is removed and reserved.

§ 154.112 [Amended]

29. Amend § 154.112 as follows:

a. In paragraph (a) remove the word “page” and add in its place “page or section”.

b. In paragraph (a) remove the words “or insert sheets” and add in their place “inserted sheets or sections”.

30. Section 154.201 (a) is revised to read as follows:

§ 154.201 Filing requirements.

* * * * *

(a) A list in the transmittal letter of the tariff pages or sections being revised and a marked version of the pages or sections to be changed or superseded showing additions and deletions. New numbers and text must be marked by either highlight, background shading, bold, or underline. Deleted text and numbers must be indicated by strike-through. Only those revisions appropriately designated and marked constitute the filing. Revisions to unmarked portions of the rate schedule or tariff are not considered part of the filing nor will any acceptance of the filing by the Commission constitute acceptance of such unmarked changes.

* * * * *

31. Section 154.205 is amended as follows:

a. Paragraphs (a), (b), and (c) are redesignated as paragraphs (c), (d), and (e), respectively.

b. The section heading is revised, and paragraphs (a) and (b) are added to read as follows:

§ 154.205 Withdrawals and amendments of tariff filings and executed service agreements.

(a) Withdrawals of tariff filings or service agreements prior to Commission action. (1) A natural gas company may withdraw in its entirety a tariff filing or executed service agreement that has not become effective and upon which no Commission or delegated order has been issued by filing a withdrawal motion with the Commission. Upon the filing of such motion, the proposed tariff sections or service agreements will not become effective under section 4(d) of the Natural Gas Act in the absence of Commission action making the rate schedule or tariff filing effective.

(2) The withdrawal motion will become effective, and the rate schedule or tariff filing will be deemed withdrawn, at the end of 15 days from the date of filing of the withdrawal motion, if no answer in opposition to the withdrawal motion is filed within that period and if no order disallowing the withdrawal is issued within that period. If an answer in opposition is filed within the 15 day period, the withdrawal is not effective until an order accepting the withdrawal is issued.

(b) Amendments or modifications to tariff sections or service agreements prior to Commission action on a tariff filing. A natural gas company may file to amend or modify a tariff or service agreement contained in a tariff filing upon which no Commission or delegated order has yet been issued. Such filing will toll the notice period in section 4(d) of the Natural Gas Act for the original filing, and establish a new date on which the entire filing will become effective, in the absence of Commission action, no earlier than 31 days from the date of the filing of the amendment or modification.

* * * * *

32. In § 154.208, paragraph (d) is revised and paragraphs (e) and (f) are added to read as follows:

§ 154.208 Service on customers and other parties.

* * * * *

(d) A customer or other party may designate a recipient of service. The filing company must serve the designated recipient, in accordance with this section, instead of the customer or other party. For the purposes of this section, service upon the designated recipient will be deemed service upon the customer or other party.

(e) The company may choose to effect service either electronically or by paper. Such service must be made in accordance with the requirements of part 385 of this chapter.

(f) Unless it seeks a waiver of electronic service, each customer or party entitled to service under this section must notify the company of the e-mail address to which service should be directed. A customer or party may seek a waiver of electronic service by filing a waiver request under part 390 of this chapter, providing good cause for its inability to accept electronic service.

§ 154.209 [Removed and Reserved]

33. Section 154.209 is removed and reserved.

§ 154.402 [Amended]

34. In § 154.402, paragraph (b)(1), the word “schedules” is removed and the words “rate schedules” are added in its place.

§ 154.602 [Amended]

35. Section 154.602 is amended by removing the phrase “on the form indicated in § 250.2 or § 250.3 of this chapter, whichever is applicable” and adding in its place the phrase “tariff filing in the electronic format required by § 154.4”.

36. Section 154.603 is revised as follows:

§ 154.603 Adoption of the tariff by a successor.

Whenever the tariff or contracts of a natural gas company on file with the Commission is to be adopted by another company or person as a result of an acquisition, or merger, authorized by a certificate of public convenience and necessity, or for any other reason, the succeeding company must file with the Commission, and post within 30 days after such succession, a tariff filing in the electronic format required by § 154.4 bearing the name of the successor company.

§§ 154.7, 154.111, 154.202, 154.206, 154.208, 154.402, and 154.403 [Amended]

37. In addition to the amendments set forth above, in 18 CFR part 154, the following nomenclature changes are made to the sections as amended:

a. In §§ 154.7(a)(5), 154.111(c), 154.202(b), 154.206(a), 154.208(a), all references to “sheets” are removed and “sheets or sections” is added in their place.

b. In §§ 154.402(b) introductory text, 154.402(b)(3), 154.403(b), all references to “sheet” are removed and “sheet or section” is added in their place.

PART 157—APPLICATIONS FOR CERTIFICATES OF PUBLIC CONVENIENCE AND NECESSITY AND FOR ORDERS PERMITTING AND APPROVING ABANDONMENT UNDER SECTION 7 OF THE NATURAL GAS ACT

38. The authority citation for part 157 continues to read as follows:

Authority: 15 U.S.C. 717-717w.

39. Amend § 157.217 by adding a sentence to the end of paragraph (a)(4) to read as follows:

§ 157.217 Changes in rate schedules.

(a) * * *

(4) * * * This tariff filing must be filed in the electronic format required by § 154.4 of this chapter.

* * * * *

PART 250—FORMS

40. The authority citation for part 250 continues to read as follows:

Authority: 15 U.S.C. 717-717w; 3301-3432; 42 U.S.C. 7101-7352.

§§ 250.2, 250.3, and 250.4 [Removed and Reserved]

41. Sections 250.2, 250.3, and 250.4 are removed and reserved.

PART 281—NATURAL GAS CURTAILMENT UNDER THE NATURAL GAS POLICY ACT OF 1978

42. The authority citation for part 281 continues to read as follows:

Authority: 15 U.S.C. 717-717w; 3301-3432; 16 U.S.C. 2601-2645; 42 U.S.C. 7101-7352.

43. In § 281.204, the first sentence in paragraph (a) is revised to read as follows:

§ 281.204 Tariff filing requirements.

(a) General Rule. Each interstate pipeline listed in § 281.202 shall file tariff sheets, in accordance with § 154.4 of this chapter, including an index of entitlements, which provides that if the interstate pipeline is in curtailment, natural gas will be delivered in accordance with the provisions of this subpart. * * *

* * * * *

§§ 281.204, 281.212, 281.213 [Amended]

44. In addition to the amendments set forth above, in 18 CFR part 281, the following nomenclature changes are made to the sections as amended:

a. In §§ 281.204(a), 281.212(a), 281.212(b), 281.212(c), 281.213(b), 281.213(d), 281.213(e), all references to “sheets” are removed and “sheets or sections” is added in their place.

b. In § 281.212, the section heading is amended to remove the reference to “sheets.”

PART 284—CERTAIN SALES AND TRANSPORTATION OF NATURAL GAS UNDER THE NATURAL GAS POLICY ACT OF 1978 AND RELATED AUTHORITIES

45. The authority citation for part 284 continues to read as follows:

Authority: 15 U.S.C. 717-717w; 3301-3432; 42 U.S.C. 7101-7352; 43 U.S.C. 1331-1356.

46. In § 284.123, paragraph (e) is revised and paragraph (f) is added to read as follows:

§ 284.123 Rates and charges.

* * * * *

(e) Filing requirements. Within 30 days of commencement of new service, any intrastate pipeline that engages in transportation arrangements under this subpart must file with the Commission a statement that includes the pipeline's interstate rates, the rate election made pursuant to paragraph (b) of this section, and a description of how the pipeline will engage in these transportation arrangements, including operating conditions, such as, quality standards and financial viability of the shipper. If the pipeline changes its operations, rates, or rate election under this subpart, it must amend the statement and file such amendments not later than 30 days after commencement of the change in operations or the change in rate election.

(f) Electronic filing of statements, and related materials. (1) General rule. All filings made in proceedings initiated under this part must be made electronically, including rates and charges, or parts thereof, and material related thereto, statements, and all workpapers. Paper submittals are not required to be filed.

(2) Requirements for signature. All filings must be signed in compliance with the following:

(i) The signature on a filing constitutes a certification that the contents are true to the best knowledge and belief of the signer, and that the signer possesses full power and authority to sign the filing.

(ii) A filing must be signed by one of the following:

(A) The person on behalf of whom the filing is made;

(B) An officer, agent, or employee of the company, governmental authority, agency, or instrumentality on behalf of which the filing is made; or,

(C) A representative qualified to practice before the Commission under § 385.2101 of this chapter who possesses authority to sign.

(iii) All signatures on the filing or any document included in the filing must comply, where applicable, with the requirements in § 385.2005 of this chapter with respect to sworn declarations or statements and electronic signatures.

(3) Format requirements for electronic filing. The requirements and formats for electronic filing are listed in instructions for electronic filing and for each form. These formats are available on the Internet at http://www.ferc.gov and can be obtained at the Federal Energy Regulatory Commission, Public Information and Reference Branch, 888 First Street, NE., Washington, DC 20426.

47. In § 284.224, paragraph (e)(5) is revised to read as follows:

§ 284.224 Certain transportation and sales by local distribution companies.

* * * * *

(e) * * *

(5) Filing Requirements. Filings under this section must comply with the requirements of § 284.123(f) of this part. The tariff filing requirements of part 154 of this chapter shall not apply to transactions authorized by the blanket certificate.

* * * * *

PART 300—CONFIRMATION AND APPROVAL OF THE RATES OF FEDERAL POWER MARKETING ADMINISTRATIONS

48. The authority citation for part 300 continues to read as follows:

Authority: 16 U.S.C. 825s, 832-832l, 838-838k, 839-839h; 42 U.S.C. 7101-7352; 43 U.S.C. 485-485k.

49. In § 300.10, paragraph (a)(4) is added to read as follows:

§ 300.10 Application for confirmation and approval.

(a) * * *

(4) Electronic filing. All material must be filed electronically in accordance with the requirements of § 35.7 of this chapter. Paper submittals are not required to be filed.

* * * * *

PART 341—OIL PIPELINE TARIFFS: OIL PIPELINE COMPANIES SUBJECT TO SECTION 6 OF THE INTERSTATE COMMERCE ACT

50. The authority citation for part 341 continues to read as follows:

Authority: 42 U.S.C. 7101-7352; 49 U.S.C. 1-27.

51. In § 341.0, paragraph (a)(11) is revised and paragraph (a)(13) is added to read as follows:

§ 341.0 Definitions; application.

(a) * * *

(11) Tariff publication means all parts of a filed tariff, including revised pages, and supplements and sections.

* * * * *

(13) Section means an individual portion of a tariff that is tracked and accorded appropriate legal status (proposed, suspended, effective). A section is the smallest portion of a tariff that can be submitted as part of a tariff filing.

* * * * *

52. Section 341.1 is revised to read as follows:

§ 341.1 Electronic filing of tariffs and related materials.

(a) General rule. All filings of tariff publications and related materials made in proceedings initiated under this part must be made electronically. Paper submittals are not required.

(b) Requirement for signature. All filings must be signed in compliance with the following:

(1) The signature on a filing constitutes a certification that the contents are true to the best knowledge and belief of the signer, and that the signer possesses full power and authority to sign the filing.

(2) A filing must be signed by one of the following:

(i) The person on behalf of whom the filing is made;

(ii) An officer, agent, or employee of the company, governmental authority, agency, or instrumentality on behalf of which the filing is made; or,

(iii) A representative qualified to practice before the Commission under § 385.2101 of this chapter who possesses authority to sign.

(3) All signatures on the filing or any document included in the filing must comply, where applicable, with the requirements in § 385.2005 of this chapter with respect to sworn declarations or statements and electronic signatures.

(c) Format requirements for electronic filing. The requirements and formats for electronic filing are listed in instructions for electronic filing and for each form. These formats are available on the Internet at http://www.ferc.gov and can be obtained at the Federal Energy Regulatory Commission, Public Information and Reference Branch, 888 First Street, NE., Washington, DC 20426.

53. Section 341.2 is amended as follows:

a. Paragraph (c)(3) is removed.

b. In paragraph (c)(1), the reference to “ or supplement numbers” is removed and “supplemental numbers, or tariff sections” is added in its place.

c. Paragraphs (a) and (c)(2) are revised to read as follows:

§ 341.2 Filing requirements.

(a) Service of filings. (1) Carriers must serve tariff publications and justifications to each shipper and subscriber. The company may choose to effect service either electronically or by paper. Such service shall be made in accordance with the requirements of part 385 of this chapter.

(2) Unless it seeks a waiver of electronic service, each customer or party entitled to service under this paragraph (a) must notify the company of the email address to which service should be directed. A customer or party may seek a waiver of electronic service by filing a waiver request under part 390 of this chapter providing good cause for its inability to accept electronic service.

* * * * *

(c) * * *

(2) Certification. Letters of transmittal must certify that the filing has been sent to each subscriber of the tariff publication pursuant to paragraph (a) of this section. If there are no subscribers, letters of transmittal must so certify.

54. In § 341.3, paragraphs (a), (b)(6)(ii), and (b)(10)(i) are revised, and paragraph (b)(10)(vi) is added to read as follows.

§ 341.3 Form of tariff.

(a) Tariffs may be filed either by dividing the tariff into individual loose-leaf tariff sheets or tariff sections, or as an entire document.

(b) * * *

(6) * * *

(ii) Each rule must be given a separate item number, (e.g., Item No. 1), and the title of each rule must be distinctive.

* * * * *

(10) * * *

(i) All tariff publications must identify where changes have been made in existing rates or charges, rules, regulations or practices, or classifications. One of the following letter designations or uniform symbols may be used to indicate the change, and insertions, other than to tables and rates, must be indicated by either highlight, background shading, bold, or underline, with deleted text indicated by strike-through.:

Description | Option 1 | Option 2
Increase | ± | [I]
Decrease | ~ | [D]
Change in wording only | − | [W]
Cancel | } | [C]
Reissued Item | = | [R]
Unchanged Rate | { | [U]
New | * | [N]

* * * * *

(vi) Only revisions that are marked appropriately constitute the filing. Revisions to unmarked portions of the rate schedule or tariff are not considered part of the filing nor will any acceptance of the filing by the Commission constitute acceptance of such unmarked changes.

* * * * *

§ 341.4 [Amended]

55. In § 341.4, paragraph (c) is removed and reserved.

56. In § 341.13, paragraph (a) and paragraph (b) introductory text are revised to read as follows:

§ 341.13 Withdrawal of proposed tariff publications.

(a) Proposed tariff publications. A proposed tariff publication which is not yet effective may be withdrawn at any time by filing a notice with the Commission with a certification that all subscribers have been notified by copy of such withdrawal.

(b) Tariff publications that are subject to investigation. A tariff publication that has been permitted to become effective subject to investigation may be withdrawn at any time by filing a notice with the Commission, which includes a transmittal letter, a certification that all subscribers have been notified of the withdrawal, and the previous tariff provisions that are to be reinstated upon withdrawal of the tariff publication under investigation. Such withdrawal shall be effective immediately upon the submission of the notice, unless a specific effective date is set forth in the notice, and must have the following effects:

* * * * *

PART 344—FILING QUOTATIONS FOR U.S. GOVERNMENT SHIPMENTS AT REDUCED RATES

57. The authority citation for part 344 continues to read as follows:

Authority: 42 U.S. 7101-7352; 49 U.S.C. 1-27.

58. Amend § 344.2 as follows:

a. Remove and reserve paragraph (b).

b. Revise paragraphs (a) and (c) to read as follows:

§ 344.2 Manner of submitting quotations.

(a) The quotation or tender must be submitted to the Commission concurrently with the submittal of the quotation or tender to the Federal department or agency for whose account the quotation or tender is offered or the proposed services are to be rendered.

(b) [Reserved]

(c) Filing procedure. (1) The quotation must be filed with a letter of transmittal that prominently indicates that the filing is in accordance with section 22 of the Interstate Commerce Act.

(2) All filings pursuant to this part must be filed electronically consistent with §§ 341.1 and 341.2 of this chapter.

* * * * *

PART 346—OIL PIPELINE COST-OF-SERVICE FILING REQUIREMENTS

59. The authority citation for part 346 continues to read as follows:

Authority: 42 U.S.C. 7101-7352; 49 U.S.C. 60502; 49 App. U.S.C. 1-85.

60. In § 346.1, the introductory text is revised to read as follows:

§ 346.1 Content of filing for cost-of-service rates.

A carrier that seeks to establish rates pursuant to § 342.2(a) of this chapter, or a carrier that seeks to change rates pursuant to § 342.4(a) of this chapter, or a carrier described in § 342.0(b) of this chapter that seeks to establish or change rates by filing cost, revenue, and throughput data supporting such rates, other than pursuant to a Commission-approved settlement, must file, consistent with the requirements of §§ 341.1 and 341.2 of this chapter:

* * * * *

PART 347—OIL PIPELINE DEPRECIATION STUDIES

61. The authority citation for part 347 continues to read as follows:

Authority: 42 U.S.C. 7101-7352; 49 U.S.C. 60502; 49 App. U.S.C. 1-85.

62. In § 347.1, remove and reserve paragraph (b), remove the last two sentences of paragraph (c), and revise paragraph (a) to read as follows:

§ 347.1 Material to support request for newly established or changed property account depreciation studies.

(a) Means of filing. Filing of a request for new or changed property account depreciation rates must be made under this part 347 and must be consistent with §§ 341.1 and 341.2 of this chapter.

* * * * *

b. Remove and reserve paragraph (b).

c. In paragraph (c), remove the last two sentences.

PART 348—OIL PIPELINE APPLICATIONS FOR MARKET POWER DETERMINATIONS

63. The authority citation for part 348 continues to read as follows:

Authority: 42 U.S.C. 7101-7352; 49 U.S.C. 60502; 49 App. U.S.C. 1-85.

64. In § 348.2, paragraphs (a) and (c) are revised to read as follows:

§ 348.2 Procedures.

(a) A carrier must file in the manner provided by §§ 341.1 and 341.2 of this chapter. A carrier must submit with its application any request for privileged treatment of documents and information under § 388.112 of this chapter and a proposed form of protective agreement.

* * * * *

(c) A letter of transmittal must describe the market-based rate filing, including an identification of each rate that would be market-based, and the pertinent tariffs, state if a waiver is being requested and specify the statute, section, subsection, regulation, policy or order requested to be waived. Letters of transmittal must be certified pursuant to § 341.1(b) of this chapter.

* * * * *

PART 375—THE COMMISSION

65. The authority citation for part 375 continues to read as follows:

Authority: 5 U.S.C. 551-557; 15 U.S.C. 717-717w, 3301-3432; 16 U.S.C. 791-825r, 2601-2645; 42 U.S.C. 7101-7352.

66. Amend § 375.307 as follows:

a. Paragraph (b)(1)(i) is amended by removing the word “and” from the end of the paragraph.

b. Paragraph (b)(1)(ii) is amended by removing the period at the end of the paragraph and adding “; and” in its place.

c. Paragraph (b)(1)(iii) is added to read as follows:

§ 375.307 Delegations to the Director of the Office of Energy Market Regulation.

* * * * *

(b) * * *

(1) * * *

(iii) Filings for administrative revisions to electronic filed tariffs.

* * * * *

PART 385—RULES OF PRACTICE AND PROCEDURE

67. The authority citation for part 385 continues to read as follows:

Authority: 5 U.S.C. 551-557; 15 U.S.C. 717-717z, 3301-3432; 16 U.S.C. 791a-825v, 2601-2645; 28 U.S.C. 2461; 31 U.S.C. 3701, 9701; 42 U.S.C. 7101-7352, 16441,16451-16463; 49 U.S.C. 60502; 49 App. U.S.C. 1-85 (1988).

§ 385.203 [Amended]

68. In § 385.203, paragraph (a)(4), the reference to “sheets” is removed and “sheets or sections” is added in its place.

69. In § 385.215, paragraph (a)(2) is amended to add a first sentence to read as follows:

§ 385.215 Amendment of pleadings and tariff or rate filings (Rule 215).

(a) * * *

(2) A tariff or rate filing may be amended or modified only as provided in the regulations under this chapter. * * *

* * * * *

70. In § 385.216, the heading and paragraph (a) is revised to read as follows:

§ 385.216 Withdrawal of pleadings and tariff or rate filings (Rule 216).

(a) Filing. Any participant, or any person who has filed a timely motion to intervene which has not been denied, may seek to withdraw a pleading by filing a notice of withdrawal. The procedures provided in this section do not apply to withdrawals of tariff or rate filings, which may be withdrawn only as provided in the regulations under this chapter.

* * * * *

§ 385.217 [Amended]

71. In § 385.217, paragraph (d)(1)(iii), the reference to “sheets” is removed and “sheets or sections” is added in its place.

§ 385.2011 [Amended]

72. In § 385.2011, paragraph (b)(1) is removed and reserved, and paragraphs (b)(4) and (b)(5) are removed.

[FR Doc. E8-9297 Filed 4-28-08; 8:45 am]

BILLING CODE 6717-01-P